DEPARTMENT OF THE INTERIOR

Bureau of Land Management

[OR-958-1430-ET; HAG01-0025; WA-19679]

Public Land Order No. 7475; Partial Revocation of the Geological Survey; Order Dated July 25, 1952; Washington

AGENCY: Bureau of Land Management, Interior.

ACTION: Public land order.

SUMMARY: This order partially revokes a Geological Survey order insofar as it affects 1,159.54 acres of lands withdrawn for Bureau of Land Management Power Site Classification No. 426. The lands are no longer needed for the purpose for which they were withdrawn. This action will open 56.22 acres to surface entry. These lands have been and will remain open to mining and mineral leasing. The remaining 1,103.32 acres of lands are included in overlapping withdrawals or have been conveyed out of Federal ownership, and will remain closed to surface entry and mining.

EFFECTIVE DATE: January 12, 2001.

FOR FURTHER INFORMATION CONTACT: Kenneth J. St. Mary, BLM Oregon/Washington State Office, P.O. Box 2965, Portland, Oregon 97208-2965, 503-952-6168.

By virtue of the authority vested in the Secretary of the Interior by Section 204 of the Federal Land Policy and Management Act of 1976, 43 U.S.C. 1714 (1994), it is ordered as follows:

1. The Geological Survey Order dated July 25, 1952, which established Power Site Classification No. 426, is hereby revoked insofar as it affects the following described lands:

Willamette Meridian

T. 3 N., R. 18 E.,

Sec. 22, N½NE¼ and SE¼NE¼.

T. 4 N., R. 22 E.,

Sec. 23, SE¼SW¼;

Sec. 24, NE¼NW¼;

Sec. 28, SE¼NE¼, NE¼SW¼, and NW¼SE¼.

T. 4 N., R. 23 E.,

Sec. 12, SE¼NE¼;

Sec. 18, SE¼NE¼ and NE¼SW¼.

T. 5 N., R. 24 E.,

Sec. 32, S½NE¼SW¼ and S½N½SE¼;

sec. 34, S½S½S½SW¼SW¼;

Sec. 35, S½SE¼;

Sec. 36, S½NE¼, SE¼NW¼, and S½.

T. 5 N., R. 25 E.,

Sec. 12, lot 2;

Sec. 13, lot 5;

Sec. 14, lots 3, 4, 6, 7, 8, and 9;

Sec. 22, lot 9.

T. 5 N., R. 26 E.,

Sec. 12, W½SW¼SE¼NW¼, SE¼SW¼SE¼NW¼, W½SW¼NE¼SE¼, SE¼SW¼NE¼SE¼, and SW¼SE¼NE¼SE¼.

The areas described aggregate 1,159.54 acres in Benton and Klickitat Counties.

2. At 8:30 a.m., on January 12, 2001, the following described lands, which are included in paragraph 1, will be opened to the operation of the public land laws generally, subject to valid and existing rights, other segregations of record, and the requirements of applicable law.

Willamette Meridian

T. 4 N., R. 23 E.,

Sec. 12, NW¼NW¼ SE¼NE¼;

Sec. 18, N½SE¼NE¼ and N½S½SE¼NE¼.

T. 5 N., R. 25 E.,

Sec. 14, lots 6 and 8.

The areas described aggregate 56.22 acres in Benton and Klickitat Counties.

3. The lands described in paragraph 1, excluding those described in paragraph 2, are within the John Day Lock and Dam Project, the Umatilla National Wildlife Refuge, or have been conveyed out of Federal ownership, and will remain closed to surface entry and mining.

Dated: December 19, 2000.
Sylvia V. Baca,
Assistant Secretary of the Interior.

[FR Doc. 00-33246 Filed 12-27-00; 8:45 am]

BILLING CODE 4310-33-P